DEPARTMENT OF HOMELAND SECURITY

Transportation Security Administration

Reports, Forms, and Record Keeping Requirements: Agency Information Collection Activity Under OMB Review; NEPA Compliance Checklist

AGENCY: Transportation Security Administration (TSA), DHS.

ACTION: Notice of emergency clearance request.

SUMMARY: TSA has submitted a request for emergency processing of a new public information collection to the Office of Management and Budget (OMB) for review and immediate clearance under the Paperwork Reduction Act of 1995 (Pub. L. 104-13, 44 U.S.C. 35). This notice announces that the Information Collection Request (ICR) abstracted below has been forwarded to OMB for review and comment. The ICR describes the nature of the information collection and its expected burden.

DATES: Send your comments by March 5, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Transportation Security Administration HQ, West Tower, Floor 4, TSA-17, 601 S. 12th Street, Arlington, VA 22202-4220; telephone (571) 227-1954; facsimile (571) 227-2912.

SUPPLEMENTARY INFORMATION:

Transportation Security Administration

Title: NEPA Compliance Checklist.

OMB Control Number: New collection.

Type of Request: Emergency processing request of new collection.

Forms(s): NEPA Compliance Checklist.

Affected Public: Applicants for grant funds.

Abstract: The National Environmental Policy Act of 1969 (NEPA), 42 U.S.C. 4321, et seq., requires agencies to consider whether major Federal actions, including the awarding of grants, will have a significant impact on the environment. TSA will be providing a checklist to collect information from grant applicants to determine if funded projects will require the completion of an Environmental Assessment. The subject information includes questions on the impact to natural resources and historic sites; any likely controversy, especially with regards to any impact on housing and development; any traffic or noise increases; impacts on air and water quality; consistency with local environmental laws; and any direct or indirect effects on humans by way of significant impact on the environment.

Number of Respondents: 1300.

Estimated Annual Burden Hours: It is estimated that this checklist will take 30 minutes for each applicant to prepare, for a total burden of 650 hours.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on January 23, 2004.
Susan T. Tracey,
Chief Administrative Officer.

[FR Doc. 04-2363 Filed 2-3-04; 8:45 am]

BILLING CODE 4910-62-P